DEPARTMENT OF STATE

[Public Notice 5951]

Bureau of Educational and Cultural Affairs (ECA) Request for Grant Proposals: Congress-Bundestag Youth Exchange Program

Announcement Type: New Grant.

Funding Opportunity Number: ECA/PE/C/PY-08-08.

Catalog of Federal Domestic Assistance Number: 19.410.

Key Dates:

Application Deadline: November 8, 2007.

Executive Summary: The Office of Citizen Exchanges, Youth Programs Division (ECA/PE/C/PY), of the Department of State's Bureau of Educational and Cultural Affairs announces an open competition for the Congress-Bundestag Youth Exchange Program (CBYX). Public and private non-profit organizations meeting the provisions described in Internal Revenue Code section 26 U.S.C. 501(c)(3) may submit proposals to facilitate educational exchanges between American and German high school students and young professionals.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The CBYX program supports the exchange of American and German young people in order to sustain and strengthen German-American friendship based on common values of democracy, and to convey lasting personal and institutional relationships to the successor generation. The primary objective of the program is to encourage American and German youth to learn about each other's society and culture through educational exchange. Additional goals for this competition include a renewed effort to promote the participants' roles as young ambassadors and the impact they can have on US-German relations, and to strengthen the linkages between U.S. Representatives and their Bundestag counterparts. The program provides a full scholarship for an academic year experience of living and studying in the host country.

The Department of State, Bureau of Educational and Cultural Affairs administers the CBYX program in the United States. The program is known in Germany as the Parlamentarisches Patenschafts-Program (PPP), and is administered by the German Bundestag Administrative Office (WI4).

Inaugurated in 1983 through a bilateral agreement between the U.S. Congress and the German Bundestag, each government provides funding to exchange organizations through assistance awards for the costs of participant recruitment and selection, international airfare, orientation and debriefing, and hosting support for the respective exchange participants.

The U.S.-German agreement calls for an open grants competition every four years, and WI4 is holding a simultaneous open competition to select the German counterpart organizations that will manage the program in Germany. Up to five German high school exchange organizations will be partnered with five American high school exchange organizations, and one German vocational and one German young professionals exchange organization will be paired with American exchange organizations. Within the proposal narrative organizations should name their intended German partner organization and provide pertinent institutional background and support materials as appropriate, and demonstrate your ability to cooperate with foreign partners in implementing exchanges.

Pending the availability of funds, organizations that are successful in this competition will be awarded grants in FY2009 for academic year 2009-10. Pending successful implementation of this program and the availability of funds in subsequent fiscal years, it is ECA's intent to renew the grants for three additional fiscal years before openly competing them again. All grants will be subject to availability of funds.

Please note: At the time of publication, funds have not been appropriated to support this program. As is the case with all Bureau assistance awards, final awards cannot be made until funds have been appropriated by Congress, allocated and committed through internal Bureau procedures.

According to the agreement between the State Department and the Bundestag WI4, the maximum number of participants to be exchanged in any given year is 400 Germans and 400 Americans. However, the actual number of participants exchanged each year is dependent on the amount of funding made available by the U.S. Congress and the German Bundestag. Though Congress has not yet determined the budget level for FY2009, the competition for program year 2009-10 will be based on up to 350 American and 360 German participants. Throughout the four-year grant cycle, representatives of both governments and the respective grantee organizations will hold annual discussions to determine the final participant numbers for each academic year.

Participants are chosen according to procedures and criteria established by each government. In the U.S. the CBYX program has three components.

1. High School Component: In FY 2009 this component may provide a maximum of 250 (50 per each organization) scholarships for a one-year educational and cultural homestay experience in Germany for American high school students ages 15-18, and reciprocally, host a maximum of 285 (57 per each organization) German students in the U.S. High school exchange organizations are invited to bid on conducting merit-based competitions among American high school students in one or more of five designated regions of the United States, as follows:

Northeast: Maine, New Hampshire, Vermont, Massachusetts, Rhode Island, Connecticut, New York, New Jersey, Ohio, Pennsylvania, Washington, DC, Delaware, Maryland.

Southeast: Arkansas, Louisiana, Mississippi, Alabama, Kentucky, Tennessee, Virginia, West Virginia, North Carolina, South Carolina, Georgia, Florida, Puerto Rico.

Central States: Indiana, Illinois, Michigan, Minnesota, Wisconsin, Iowa, Missouri, Nebraska.

Southwest: Kansas, Texas, Oklahoma, Colorado, New Mexico, Utah, Arizona, Southern California* (*the northern border of this region includes the counties of Monterey, San Benito, Fresno, and Inyo).

Pacific/Northwest: Alaska, Hawaii, Washington, Oregon, Idaho, Montana, Wyoming, Nevada, North Dakota, South Dakota, Northern California* (*the southern border of this region includes the counties of Santa Cruz, Santa Clara, Merced, Madera, and Mono).

American high school exchange organizations may bid on more than one region, indicating the most preferred region(s) in priority order. Five organizations will be selected to conduct all aspects of the recruitment and selection of 50 American participants in one of the five regions. In coordination with its German partner organization, high school organizations will program 50 American and 57 German students. German students may be placed in host homes and schools throughout the U.S.

Organizations that are awarded a grant will conduct advertising, recruitment, processing of applications, screening, selection, pre-departure, arrival, and re-entry orientations, and management of all administrative and logistical matters including domestic and international travel.

In the host country, American and German partner organizations will coordinate arrival and re-entry orientation for the respective exchange students, placement of the students in host families and schools (nationwide), arrange program enrichment activities, conduct the recruitment, screening, including criminal background checks, selection and orientation of host-families, provide program monitoring, supervision and counseling to students and host families, and manage all administrative and logistical matters including in-country travel and health and accident insurance.

For the German participants grantee organizations should secure all host family and school placements at least two weeks prior to the German students' arrival in the United States. Organizations will be required to submit to the program office a list of these placements (host families, host schools, and corresponding Congressional representatives/districts) no later than August 31 and periodically update the information throughout the year.

Grantee organizations will submit to the Department of State program office, at least 60 days after departure/arrival data lists of all current American participants with U.S. addresses, names of parents and corresponding Congressional representatives/districts.

2. Vocational Component: This component provides scholarships to graduating American high-school seniors with a vocational specialization for a one-year professional study and training experience in their fields of interest in Germany. One organization will be selected to conduct all aspects of the nationwide selection competition in the U.S. for 25 American students and programming, including advertising, recruitment, processing of applications, screening, selection, pre-departure orientations, and management of all administrative and logistical matters including domestic and international travel. (During the selection process the grantee is encouraged to work with vocational educational offices at the state level, as well as administrators of secondary schools with vocational education curriculum.)

The German partner organization chosen by the Bundestag Administrative Office will coordinate arrival and re-entry orientation for the students and their placement in host families and schools, arrange a practicum in the participants' field of study, arrange program enrichment activities, and conduct the recruitment, screening, selection and orientation of host families, provide program monitoring, supervision and counseling to students and host families, and manage all administrative and logistical matters including in-country travel and health and accident insurance.

The vocational grantee organization will submit to the Department of State program office, at least 60 days after departure/arrival a data list of all current American participants with U.S. addresses, names of parents and corresponding Congressional representatives/districts.

3. Young Professionals Component: This component provides scholarships for a one-year professional study and training experience in the host country in business, technical, vocational, and agricultural fields to young American and German students ages 18-24. One organization will be selected to conduct all aspects of programming for 75 American and 75 German Young Professionals, including the nationwide competition for the Americans and placement of the German students in American homes and schools, advertising, recruitment, processing of applications, screening, selection and pre-departure orientations and debriefings, and management of all administrative and logistical matters including domestic and international travel.

In the host country, the American and German partner organization will coordinate arrival and re-entry orientation for the students, the placement of the students in host families (or other suitable living quarters) and schools (colleges/universities), arrange a practicum in the participants' field of study, arrange program enrichment activities, and conduct the recruitment, screening, selection and orientation of host families, provide program monitoring, supervision and counseling to students and host families, and manage all administrative and logistical matters including in-country travel and health and accident insurance.

In the United States, each German young professional participant will be placed in a two-or four-year college for one semester of full-time study or a minimum of 12 credit hours (which may include an English class) throughout the academic year. The organization is encouraged to seek tuition waivers and cost sharing with cooperating colleges. The organization will coordinate with each participant to assure that his/her practicum is based on a prospectus of the specific skills and functions that will be mastered and that there is a structured learning component that enables the participant to gain a perspective on the overall operation of the business. The selected organization will also coordinate a six-week Congressional internship on Capitol Hill or in the state office for up to five German young professionals.

A monthly stipend for some meals, incidentals and reasonable local transportation expenses may be included in the budget, but it is anticipated that the stipend would be substantially reduced or eliminated during the second half of the program when the participants receive allowances for living expenses from the firms or agencies hosting their practicum. The current stipend range is $250 to $300 per the regional cost of living. Where possible, hosting arrangements should be found that do not require subsidization.

The selected young professionals organization will be required to submit to the program office a list of the German placements in the United States (host homes and host schools and corresponding Congressional representatives/districts) no later than August 31, and periodically update the information throughout the year.

The young professionals organization will submit to the Department of State program office, at least 60 days after departure/arrival data lists of all current American participants with U.S. addresses, names of parents and corresponding Congressional representatives/districts.

4. Administrative Supplementals: The administrative supplemental will provide funds to:

(1) One high school organization to produce and distribute the high school scholarship promotional materials and maintain the CBYX High School Scholarship application Web site, and

(2) One organization from either of the three components to maintain the Congress-Bundestag Alumni Database Web site for all CBYX participants.

High School Scholarship Materials and Web Site

In addition to the 20-page program narrative, interested high school organizations may submit a bid to produce and distribute the high school scholarship promotional materials and maintain the High School scholarship application Web site. The narrative for the supplemental should not exceed three pages and include a separate budget projection. For budget/line-item details please see the Project Objectives, Goals, and Implementation (POGI). The supplemental funds will be included in the final grant agreement and listed as a separate item of expenditure. The Bureau anticipates funding this activity at a level of approximately $53,200, pending availability of funds.

The selected high school “administrative” organization will coordinate with all of the high school grantee organizations data/input for production of the promotional materials. Once the input is finalized the administrative organization will mass produce and distribute the materials to the high school organizations. This includes advertisement brochures, posters, and scholarship applications for recruiting American high school students, and set up/maintenance of the scholarship application Web site. The Web site advertises the same printed promotional materials and allows interested students to download applications and submit them to the respective high school organization responsible for recruiting in the students' home state.

Once the high school grantee organizations receive the promotional materials from the administrative organization they will distribute the materials to a wide audience within their appointed region, including public and private secondary schools, the media, and key networks such as the American Association of Teachers of German. (Innovative methods of publicizing the program are welcome, within funding limitations. Organizations are encouraged to utilize their volunteer networks and alumni to promote the program.)

Alumni Database Web Site

In addition to the 20-page program narrative, interested organizations from either of the three components may submit a bid to set up and maintain the CBYX Alumni Database Web site. The narrative for the supplemental should not exceed three pages and include a separate budget projection. For budget/line-item details please see the Project Objectives, Goals, and Implementation (POGI). The supplemental funds will be included in the final grant agreement and listed as a separate item of expenditure. The Bureau anticipates funding this activity at a level of approximately $10,000, pending availability of funds.

The organization selected to maintain the Congress-Bundestag Alumni Database Web site for all CBYX participants will set up and maintain a Web-based listing of CBYX participants designed to centrally harness alumni and encourage activities beyond their participation in the program. The organization select for this supplemental will coordinate participant/alumni lists will all CBYX organizations to assure students' eligibility and accuracy.

II. Award Information

Type of Award: Grant Agreement.

Fiscal Year Funds: FY-2009.

Approximate Total Funding: Unknown at this time, pending a FY-2009 Congressional Appropriation. However, for proposal development purposes, the total FY-2007 funding level was $3,256,000.

Approximate Number of Awards: 7 (5 High School Component, 1 Young Professionals Component, 1 Vocational Component).

Approximate Average Award: Unknown at this time, pending a FY-2009 Congressional Appropriation.

Anticipated Award Date: January 2010.

Anticipated Project Completion Date: August 2011.

Additional Information: Final funding will be pending a FY 2009 Congressional Appropriation. However, for illustrative purposes, the current average per capita costs for each program component are: $4,545 for the high school component, $5,698 for the young professionals component, and $3,900 for the vocational component. Applicants' budget submissions should be realistic and reflect anticipated actual costs required to implement the program(s) and the varying costs specific to the German participants' hosting needs, and the American participants' programming needs. Budget submissions under this RFGP may be subject to renegotiation. The Bureau reserves the right to reduce, revise, or increase proposal budgets in accordance with the needs of the program and the availability of funds.

Budgets should be prepared according to Tab D of the Proposal Submission Instructions (PSI). You may delete or modify line items according to program and administrative needs as described in the proposal narrative. Please include budget notes, as appropriate.

High school organizations should prepare a budget to recruit/program 50 Americans and host 57 Germans; vocational organizations should prepare a budget to recruit/program 25 Americans; young professionals organizations should prepare a budget to recruit/program 75 Americans and 75 Germans.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Grants awarded to eligible organizations with less than four years of experience in conducting international exchange programs will be limited to $60,000.

IV. Application and Submission Information

Note: Please read the complete announcement before sending inquiries or submitting proposals. Once the RFGP deadline has passed, Bureau staff may not discuss this competition with applicants until the proposal review process has been completed.

IV.1. Contact Information To Request an Application Package

Please contact the Office of Citizen Exchanges, Youth Programs Division, ECA/PE/C/PY, Room 568, U.S. Department of State, SA-44, 301 4th Street, SW., Washington, DC 20547, (202) 203-7527 and (202) 203-7529, jonessa1@state.gov to request a Solicitation Package. Please refer to the Funding Opportunity Number ECA/PE/C/PY-08-08 when making your request.

Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

Please specify Bureau Program Officer Shalita Jones and refer to the Funding Opportunity Number ECA/PE/C/PY-08-08 located at the top of this announcement on all other inquiries and correspondence.

IV.2. To Download a Solicitation Package Via Internet

The entire Solicitation Package may be downloaded from the Bureau's Web site at http://exchanges.state.gov/education/rfgps/menu.htm, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62, et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62, et seq., including the oversight of their Responsible Officers and Alternate Responsible Officers, screening and selection of program participants, provision of pre-arrival information and orientation to participants, monitoring of participants, proper maintenance and security of forms, recordkeeping, reporting and other requirements.

The Office of Citizen Exchanges of ECA will be responsible for issuing DS-2019 forms to participants in this program.

A copy of the complete regulations governing the administration of Exchange Visitor (J) programs is available at #http://exchanges.state.gov or from:

United States Department of State, Office of Exchange Coordination and Designation, ECA/EC/ECD-SA-44, Room 734, 301 4th Street, SW., Washington, DC 20547, Telephone: (202) 203-5029, FAX: (202) 453-8640.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the 'Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable timeframe), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget projection for the entire program. There must be a summary budget as well as breakdowns reflecting both administrative and program budgets. Applicants may provide separate sub-budgets for each program component, phase, location, or activity to provide clarification.

IV.3e.2. Please refer to the Solicitation Package for allowable costs, complete budget guidelines and formatting instructions.

Note: Final budgets will be solicited from the selected grantees for FY 2009 (academic year 2009-10) no later than fall 2009.

IV.3f. Application Deadline and Methods of Submission

Application Deadline Date: November 8, 2007.

Reference Number: ECA/PE/C/PY-08-08.

Methods of Submission: Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 8 copies of the application should be sent to: U.S. Department of State, SA-44, Bureau of Educational and Cultural Affairs, Ref.: ECA/PE/C/PY-08-08, Program Management, ECA/EX/PM, Room 534, 301 4th Street, SW., Washington, DC 20547.

Applicants submitting hard-copy applications must also submit the “Executive Summary” and “Proposal Narrative” sections of the proposal in text (.txt) or Microsoft Word format on a PC-formatted disk. The Bureau will provide these files electronically to the appropriate Public Affairs Section(s) at the U.S. Embassy for its review.

IV.3f.2. Submitting Electronic Applications

Applicants have the option of submitting proposals electronically through Grants.gov (http://www.grants.gov). Complete solicitation packages are available at Grants.gov in the “Find” portion of the system. Please follow the instructions available in the ‘Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. Therefore, we strongly recommend that you not wait until the application deadline to begin the submission process through Grants.gov.

Direct all questions regarding Grants.gov registration and submission to: Grants.gov Customer Support, Contact Center Phone: 800-518-4726, Business Hours: Monday-Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Quality of the Program Idea: Proposals should exhibit originality, substance, precision, and relevance to the Bureau's mission.

2. Program Planning: Detailed agenda and relevant work plan should demonstrate substantive undertakings and logistical capacity. Agenda and plan should adhere to the program overview and guidelines described above.

3. Ability To Achieve Program Objectives: Objectives should be reasonable, feasible, and flexible. Proposals should clearly demonstrate how the institution will meet the program's objectives and plan.

4. Multiplier Effect/Impact: Proposed programs should strengthen long-term mutual understanding, including maximum sharing of information and establishment of long-term institutional and individual linkages.

5. Support of Diversity: Proposals should demonstrate substantive support of the Bureau's policy on diversity. Achievable and relevant features should be cited in both program administration (selection of participants, program venue and program evaluation) and program content (orientation and wrap-up sessions, program meetings, resource materials and follow-up activities).

6. Institutional Capacity: Proposed personnel and institutional resources should be adequate and appropriate to achieve the program or project's goals.

7. Institution's Record/Ability: Proposals should demonstrate an institutional record of successful exchange programs, including responsible fiscal management and full compliance with all reporting requirements for past Bureau grants as determined by Bureau Grants Staff. The Bureau will consider the past performance of prior recipients and the demonstrated potential of new applicants.

8. Follow-on Activities: Proposals should provide a plan for continued follow-on activity (without Bureau support) ensuring that Bureau supported programs are not isolated events.

9. Project Evaluation: Proposals should include a plan to evaluate the activity's success, both as the activities unfold and at the end of the program. A draft survey questionnaire or other technique plus description of a methodology to use to link outcomes to original project objectives is recommended.

10. Cost-effectiveness: The overhead and administrative components of the proposal, including salaries and honoraria, should be kept as low as possible. All other items should be necessary and appropriate.

11. Cost-sharing: Proposals should maximize cost-sharing through other private sector support as well as institutional direct funding contributions.

12. Value to U.S.-Partner Country Relations: Proposed projects should receive positive assessments by the U.S. Department of State's geographic area desk and overseas officers of program need, potential impact, and significance in the partner country(ies).

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information: http://www.whitehouse.gov/omb/grants. http://exchanges.state.gov/education/grantsdiv/terms.htm #articleI.

VI.3. Reporting Requirements

You must provided ECA with a hard copy original plus one of the following reports:

Mandatory:

(1) A final program and financial report no more than 90 days after the expiration of the award;

(2) Quarterly program and financial reports which should include a narrative of program activities and financial expenditures according to the proposed time line within the specified quarter, as well as issues that may have arisen and how they were handled, lessons learned, etc., (see POGI for more details).

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document. Reports may also be sent electronically to reports@state.gov and copied the program officer.

VII. Agency Contacts

For questions about this announcement, contact Shalita Jones, Program Officer, Office of Citizen Exchanges, ECA/PE/C/PY, Room 568, ECA/PE/C/PY-08-08, U.S. Department of State, SA-44, 301 4th Street, SW., Washington, DC 20547, telephone (202) 203-7507 and fax number (202) 203-7529, jonessa1@state.gov.

All correspondence with the Bureau concerning this RFGP should reference the above title and number ECA/PE/C/PY-08-08.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: September 27, 2007.
C. Miller Crouch,
Acting Assistant Secretary for Educational and Cultural Affairs, Department of State.

[FR Doc. E7-19642 Filed 10-3-07; 8:45 am]

BILLING CODE 4710-05-P